DEPARTMENT OF AGRICULTURE

Forest Service

Little Doe and Low Gulch Timber Sale Project EIS—Six Rivers National Forest

AGENCY: Forest Service, USDA.

ACTION: Notice of intent to prepare an environmental impact statement.

SUMMARY: The Forest Service will prepare an environmental impact statement on a proposal to harvest timber from the Little Doe and Low Gulch project area, which is located on National Forest System lands administered by the Six Rivers National Forest in Northern California. If approved, the project would harvest approximately 7.9 million board feet (MMBF) of timber from approximately 923 acres of conifer stands through intermediate and regeneration cutting methods. Logging systems employed would include ground-based skidding, skyline cable yarding, and helicopter logging. Post-harvest treatments within the proposed treatment units include fuel reduction, site preparation, and reforestation treatments. Connected actions associated with the project proposal include landing construction and reconstruction, temporary road construction with subsequent decommissioning, and road maintenance. There is a need to provide timber volume that would contribute to the economic base of the local communities. Within the context of meeting this need, an opportunity exists to maintain oaks as an important component within Douglas-fir/black oak conifer stands and oak woodlands within the project area.

DATES: Comments concerning the scope of the analysis should be received on or before 30 days after publication of this notice in the Federal Register. The draft environmental impact statement is expected to be released in November 2006 and the final environmental impact statement is expected to be released in April 2007.

ADDRESSES: Send written comments to William Metz, Acting Forest Supervisor, Six Rivers National Forest, 1330 Bayshore Way, Eureka, CA 95501-3834. Electronic mail may be sent to comments-pacificsouthwest-six-rivers-mad-river@fs.fed.us.

FOR FURTHER INFORMATION CONTACT: Ruben Escatell, EIS Team Leader, (707) 574-6233, Ext. 225.

SUPPLEMENTARY INFORMATION:

Proposed Action

The Forest Service proposes to harvest approximately 7.9 million board feet (MMBF) of timber from approximately 923 acres of conifer stands within the Little Doe and Low Gulch planning areas in the form of 87 harvest units. The planning areas are located on National Forest System lands administered by the Mad River Ranger District of the Six Rivers National Forest in Trinity County, California. The project area is located in all or portions of the following townships: T.26 N., R.11 W.; T.26 N., R.12 W.; T.27 N., R11 W.; and T.27 N., R.12 W.; Mount Diablo Meridian. The project area occurs on lands allocated to Management Areas that support a programmed timber harvest under the Six Rivers Land and Resource Management Plan (LRMP).

Silvicultural treatments prescribed on the proposed harvest units include 709 acres of intermediate harvest treatments (low thinning, thinning/sanitation cutting, and oak release) and 214 acres of regeneration cutting treatments (regeneration with green tree legacy and shelterwood cutting). Of the 923 acres proposed for commercial harvest, approximately 730 acres would be tractor logged, 14 acres would be tractor swung to skyline corridors, 82 acres would be skyline logged, and 97 acres would be helicopter logged. Twenty-five (25) new landings would be constructed, and 127 existing landings would be utilized. Fuel treatments prescribed would include one or a combination of the following treatments: hand or machine piling and subsequent burning of piles, yarding of tops out of the units and piling at existing landings for future disposal, yarding unutilized material out of harvest units, felling of unutilized material less than 8 inches in diameter, and underburning. Reforestation would take place after logging and fuels treatments are completed on 214 acres in harvest units proposed for regeneration cutting. Connected actions include approximately 1,213 feet (0.23 miles) of new temporary road construction and 3,443 feet (0.65 miles) of existing non-system roads used to access landings in harvest units. These roads would be decommissioned upon project completion. Road maintenance would occur as needed on Forest system roads used to haul commercial timber. These activities may include blading, scarification, spot rocking, brushing, ditch cleaning, culvert cleaning, dust abatement, water bars, minor slide and slump repair, and water source deferred maintenance.

Purpose and Need for Action

There is a need for the Six Rivers National Forest to provide timber volume to contribute to the economic base of the local communities. Within the context of meeting this need, vegetation management within the project area also provides an opportunity to maintain oaks as a component within Douglas-fir/black oak conifer stands and oak woodlands. The project area encompasses vegetative communities where oaks are becoming over-topped, shaded out, and encroached upon by conifers. There is an opportunity to remove competing conifers from treatment units exhibiting these characteristics. This opportunity serves to maintain oaks and the specialized habitats they provide over the long term.

Responsible Official

William Metz, Acting Forest Supervisor, Six Rivers National Forest, 1330 Bayshore Way, Eureka, CA 95501-3834, is the Responsible Official for making any decisions relative to this proposal. He will document his decisions and rationale in a Record of Decision.

Decisions To Be Made

The Forest Supervisor of the Six Rivers National Forest will decide on whether the proposed action will proceed as proposed, or as modified by an alternative. If it proceeds he will also decide on what project design features and monitoring requirements will be applied to the project.

Estimated Dates for Filing

The draft EIS is expected to be filed with the Environmental Protection Agency (EPA) and to be available for public review by November 2006. At that time EPA will publish a Notice of Availability of the draft EIS in the Federal Register. The comment period on the draft EIS will be 45 days from the date the EPA publishes the Notice of Availability in the Federal Register. It is very important that those interested in the management of this area participate at that time.

The final EIS is scheduled to be completed by April 2007. In the final EIS, the Forest Service is required to respond to comments and responses received during the comment period that pertain to the environmental consequences discussed in the draft EIS and applicable laws, regulations, and policies considered in making a decision regarding the proposal.

Comment Requested

This notice of intent continues the scoping process which guides the development of the environmental impact statement. The Forest Service will be seeking information, comments and assistance from Federal, State and local agencies and other individuals or organization that may be interested in, or affected by, the proposed action. While public participation in this analysis is welcome at any time, comments received within 30 days of the publication of this notice will be especially useful in the preparation of the EIS.

Electronic Access and Filing Addresses

Comments may be sent by electronic mail (e-mail) to comments-pacificsouthwest-six-rivers-mad-river@fs.fed.us. Please reference the Little Doe and Low Gulch Timber Sale Project on the subject line. Also, include your name and mailing address with your comments so documents pertaining to this project may be mailed to you.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: May 12, 2006.
William Metz,
Acting Forest Supervisor, Six Rivers National Forest.

[FR Doc. E6-7556 Filed 5-17-06; 8:45 am]

BILLING CODE 3410-11-P